DEPARTMENT OF TRANSPORTATION

Federal Highway Administration

Notice of Limitation on Claims For the Big Bear Bridge Replacement Project, San Bernardino National Forest, California

AGENCY: U.S. Department of Transportation, Federal Highway Administration (FHWA).

SUMMARY: This notice announces the actions taken by the FHWA and other Federal agencies that are final within the meaning of 23 U.S.C. 139(l)(1). These actions relate to a proposed bridge replacement project in the San Bernardino National Forest, California. The federal actions grant approvals and authorize funding for the project.

DATES: By this notice, the FHWA is advising the public of final agency actions subject to 23 U.S.C.(l)(1). A claim seeking judicial review of the Federal agency actions on the bridge replacement project will be barred unless a claim is filed on February 4, 2008. If the Federal law that authorizes judicial review of a claim provides a time period less than 180 days for filing such claim, then that shorter time period still applies.

FOR FURTHER INFORMATION CONTACT: David Cohen, Environmental Protection Specialist, Federal Highway Administration, 650 Capitol Mall, Suite 4-100, Sacramento, CA 95814, weekdays between 9 a.m. and 5 p.m. (Pacific Time), telephone (916) 498-5868, e-mail: David.Cohen@dot.gov; Tay Dam, Project Development Engineer, Federal Highway Administration, 888 S. Figueroa, Suite 1850, Los Angeles, CA 90017, telephone (213) 202-3954,e-mail: Tay.Dam@dot.gov; Mr. Boniface Udotor, Senior Environmental Planner, Caltrans District 8, 464 West 4th Street, San Bernardino, CA 92401, telephone (909) 388-1387, e-mail: Boniface_Udotor@dot.ca.gov.

SUPPLEMENTARY INFORMATION: Notice is hereby given that the FHWA and other Federal agencies have taken final agency actions subject to 23 U.S.C. 139(l)(1) by issuing approvals for the following bridge replacement project in the State of California: The Big Bear Lake Bridge on State Route 18 in the San Bernardino National Forest. This project will provide a structurally sound and operationally efficient transportation facility which will blend into and add value to its environmental setting. The project will also realign the approach roadways to the bridge and signalize the intersection between State Route 18 and State Route 38. The existing bridge will be removed from the top of the dam to facilitate the Big Bear Municipal Water District's planned spillway and outlet works improvements.

The actions by the Federal agencies and the laws under which such actions were taken are described in the Final Environmental Impact Statement for the project, approved on March 30, 2007, and in other documents in the administrative record. The FEIS, the Record of Decision, and other project records are available by contacting the FHWA or Caltrans at the addresses provided above. The environmental document is also published on-line at http://www.dot.ca.gov/dist8/pdf/bigbear-FEIS-R.pdf.

This notice applies to all final decisions of Federal agencies as of the issuance date of this notice, and all laws under which such actions were taken, including but not limited to:

1. General: The National Environmental Policy Act (NEPA) [42 U.S.C. 4321-4351]; Federal-Aid Highway Act [23 U.S.C. 109]

2. Air: Clean Air Act [42 U.S.C. 7401-7671(q)]

3. Land: The Section 4(f) of the U.S. Department of Transportation Act of 1966 [49 U.S.C. 303; Landscaping and Scenic Enhancement (Wildflowers) [23 U.S.C. 319]

4. Wildlife: The Endangered Species Act [16 U.S.C. 1531-1544 and Section 1536], Fish and Wildlife Coordination Act [16 U.S.C. 661-667(d)]; Migratory Bird Treaty Act [16 U.S.C. 703-712]

5. Historic and Cultural Resources: Section 106 of the National Historic Preservation Act of 1966, as amended [16 U.S.C. 470(f) et seq.]; Archeological Resources Protection Act of 1977 [16 U.S.C. 470(aa)-11]; Archeological and Historic Preservation Act [16 U.S.C. 469-469(c)]; Native American Grave Protection and Repatriation Act (NAGPRA) [25 U.S.C. 3001-3013]

6. Social and Economic Impacts: Civil Rights Act of 1964 [42 U.S.C. 2000(d)-2000(d)(1)]; American Indian Religious Freedom Act [42 U.S.C. 1996]; Farmland Protection Policy Act (FPPA) [7 U.S.C. 4201-4209]

7. Wetlands and Water Resources: Clean Water Act [33 U.S.C. 1251-1377]; Rivers and Harbors Act of 1899 [33 U.S.C. 401-406]; Flood Disaster Protection Act [42 U.S.C. 4001-4128]

8. Hazardous Materials: Comprehensive Environmental Response, Compensation, and Liability Act (CERCLA) [42 U.S.C. 9601-9675]; Resource Conservation and Recovery Act (RCRA) [42 U.S.C. 6901-6992(k)]

9. Executive Orders: E.O. 11990 Protection of Wetlands, E.O. 11988 Floodplain Management; E.O. 12898 Federal Actions to Address Environmental Justice in Minority and Low Income Populations, E.O. 11593 Protection and Enhancement of Cultural Resources, E.O. 13007 Indian Sacred Sites, E.O. 13287 Preserve America, E.O. 13175 Consultation and Coordination with Indian Tribal Governments, E.O. 11514 Protection and Enhancement of Environmental Quality, E.O. 13112 Invasive Species.

(Catalog of Federal Domestic Assistance Program Number 20.205, Highway Planning and Construction. The regulations implementing Executive Order 12372 regarding intergovernmental consultation on Federal programs and activities apply to this activity.)

Authority: 23 U.S.C. 139(l)(1).

Issued on: July 30, 2007.
Maiser Khaled,
Director, Project Development & Environment, Federal Highway Administration, California Division.

[FR Doc. E7-15267 Filed 8-6-07; 8:45 am]

BILLING CODE 4910-RY-P